DEPARTMENT OF THE TREASURY

Submission for OMB Review; Comment Request

November 26, 2012.

The Department of the Treasury will submit the following information collection request to the Office of Management and Budget (OMB) for review and clearance in accordance with the Paperwork Reduction Act of 1995, Public Law 104-13, on or after the date of publication of this notice.

DATES: Comments should be received on or before December 31, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0010.

Type of Review: Extension without change of a currently approved collection.

Title: Formula and Process for Wine.

Form: TTB F 5120.29.

Abstract: TTB F 5120.29 is used to determine the classification of wines for labeling and consumer protection. The form is used to describe the person filing, the type of product to be made, and the process by which the product is made. The form is also used to audit a product.

Affected Public: Private Sector: Businesses or other for-profits.

Estimated Total Burden Hours: 1,200.

OMB Number: 1513-0028.

Type of Review: Revision of a currently approved collection.

Title: Application for an Industrial Alcohol User Permit.

Form: TTB F 5150.22.

Abstract: TTB F 5150.22 is used to determine the eligibility of the applicant to engage in certain operations and the extent of the operations for the production and distribution of specially denatured spirits (alcohol/rum) and the use of tax-free alcohol under 27 CFR 22.41. This form identifies the location of the premises and establishes whether the premises will be in conformity with Federal laws and regulations.

Affected Public: Private Sector: Businesses or other for-profits.

Estimated Total Burden Hours: 419.

OMB Number: 1513-0047.

Type of Review: Extension without change of a currently approved collection.

Title: Distilled Spirits Records (TTB REC 5110/01) and Monthly Report of Production Operations.

Form: TTB F 5110.40.

Abstract: The information collected is used to account for proprietor's tax liability and adequacy of bond coverage, for protection of the revenue. The information also provides data to analyze trends in the industry, plan efficient allocation of field resources, and compile statistics for government economic analysis.

Affected Public: Private Sector: Businesses or other for-profits.

Estimated Total Burden Hours: 3,600.

OMB Number: 1513-0048.

Type of Review: Revision of a currently approved collection.

Title: Registration of Distilled Spirits Plants and Miscellaneous Requests and Notices and Distilled Spirits Plans.

Form: TTB F 5110.41.

Abstract: The information provided by the applicants assists TTB in determining eligibility and providing for registration. These eligibility requirements are for persons who wish to establish distilled spirits plant operations. In addition, both statutes and regulations allow variances from regulations, and the information collected enables TTB to determine whether a variance can be approved.

Affected Public: Private Sector: Businesses or other for-profits.

Estimated Total Burden Hours: 4,471.

OMB Number: 1513-0057.

Type of Review: Revision of a currently approved collection.

Title: Letterhead Applications and Notices Relating to Wine (5120/2).

Abstract: Letterhead applications and notices relating to wine are required to ensure that the intended activity will not jeopardize the revenue or defraud consumers.

Affected Public: Private Sector: Businesses or other for-profits.

Estimated Total Burden Hours: 825.

OMB Number: 1513-0074.

Type of Review: Extension without change of a currently approved collection.

Title: Airlines Withdrawing Stock from Customs Custody (TTB REC 5620/2).

Abstract: Airlines may withdraw tax exempt distilled spirits, wine, and beer from Customs custody for foreign flights. The required record shows the amount of spirits and wine withdrawn, flight identification, and Customs certification. As a result, it enables TTB to verify that tax is not due, allows spirits and wines to be traced, maintains accountability, and protects tax revenue. The collection of information is contained in 27 CFR 28.280 and 28.281.

Affected Public: Private Sector: Businesses or other for-profits.

Estimated Total Burden Hours: 2,500.

OMB Number: 1513-0088.

Type of Review: Revision of a currently approved collection.

Title: Alcohol, Tobacco, and Firearms Related Documents for Tax Returns and Claims (TTB REC 5000/24).

Abstract: TTB is responsible for the collection of Federal excise taxes on firearms, ammunition, distilled spirits, wine, beer, tobacco products, and cigarette papers and tubes. These excise taxes are required to be collected on the basis of a return, and taxpayers are required to maintain appropriate records that support the information in the return.

Affected Public: Private Sector: Businesses or other for-profits, not-for-profit institutions; individuals or households.

Estimated Total Burden Hours: 503,921.

Dawn D. Wolfgang,
Treasury PRA Clearance Officer.

[FR Doc. 2012-28857 Filed 11-28-12; 8:45 am]

BILLING CODE 4810-31-P